DEPARTMENT OF DEFENSE

Department of the Navy

Notice of Intent To Prepare an Environmental Impact Statement for the West Coast Introduction of the MV-22 Tilt-Rotor Aircraft to Third and Fourth Marine Aircraft Wings

AGENCY: Department of the Navy, DOD.

ACTION: Notice.

SUMMARY: Pursuant to Section 102(2)(c) of the National Environmental Policy Act of 1969, as implemented by the Council on Environmental Quality regulations (40 CFR Parts 1500-1508), the Department of the Navy intends to prepare an Environmental Impact Statement (EIS) to evaluate the potential environmental effects of the West Coast introduction of the MV-22 tilt-rotor aircraft to the Third and Fourth Marine Aircraft Wings.

DATES: All written comments must be postmarked no later than December 1, 2000.

ADDRESSES: Seven public scoping meetings will be held to receive oral and/or written comments from agencies and interested individuals on environmental concerns that should be addressed in the EIS.

1. October 25, 2000, from 6:00 pm to 10:00 pm at The Desert Inn, 44219 Sierra Highway, Lancaster, California;

2. November 1, 2000, from 6:00 pm to 10:00 pm at the County Administrative Center, 940 Main Street, Room 211, El Centro, California;

3. November 2, 2000, from 6:00 pm to 9:00 pm at Yuma Main Library, Auditorium, 350 Third Avenue, Yuma, Arizona;

4. November 6, 2000, from 6:00 pm to 10:00 pm at Torrey Pines High School, Lecture Hall, 3710 Del Mar Heights Road, San Diego, California;

5. November 7, 2000, from 6:00 pm to 10:00 pm at San Clemente High School, Little Triton Theater, 700 Avenida Pico, San Clemente, California;

6. November 8, 2000, from 6:00 pm to 10:00 pm at Mira Mesa High School, Auditorium, 10510 Reagan Road, San Diego, California;

7. November 9, 2000, from 6:00 pm to 10:00 pm at the Fallbrook Community Center, 341 Heald Lane, Fallbrook, California.

FOR FURTHER INFORMATION CONTACT: Mr. Doug Gilkey, Southwest Division, Naval Facilities Engineering Command, 1220 Pacific Highway, San Diego, CA 92132-5190; telephone 619-532-3348, fax 619-532-2469, email gilkeyde@efdsw.navfac.navy.mil.

SUPPLEMENTARY INFORMATION: The MV-22 aircraft, known as the Osprey, represents a new technology in military aviation. This aircraft utilizes tilt-rotary technology to enable it to operate like a rotary-wing aircraft and a fixed-wing aircraft. The MV-22 will replace the aging CH-46 and CH-53 rotary-wing aircraft. In December 1999, the Department of the Navy completed an EIS for introduction of the MV-22 to the Second Marine Aircraft Wing supporting Fleet Marine Force training and operations at Marine Corps Base (MCB) Camp Lejeune, North Carolina.

The proposal being evaluated in this EIS is the basing and operation of seven squadrons of MV-22 aircraft in the Third Marine Aircraft Wing and two squadrons of MV-22 aircraft in the Fourth Marine Aircraft Wing. The primary mission of the MV-22 in the Third and Fourth Marine Aircraft Wings will be to support Fleet Marine Force training and operations at MCB Camp Pendleton; accordingly, alternatives to be considered in the EIS are all aviation facilities within the operational radius of the MV-22 from MCB Camp Pendleton.

This proposal includes construction and/or renovation of facilities to accommodate the aircraft, and associated equipment and personnel. Also, the proposal includes the use of existing and potentially new outlying fields and other landing areas, as well as existing and potentially new airspace for military aircraft in support of both military training and operations.

The Marine Corps is currently evaluating all DoD West Coast installations to develop reasonable MV-22 siting alternatives. To date, five installations have been identified as potential receiving sites: Marine Corps Air Station (MCAS) Camp Pendleton, MCAS Miramar, MCAS Yuma, Naval Air Facility El Centro, and Edwards Air Force Base. Application of screening criteria will identify a range of reasonable alternatives that will be evaluated in the EIS and other siting alternatives may be considered as appropriate.

Environmental issues to be addressed in the EIS include: geological resources, biological resources, water resources, noise, air quality, land use compatibility, cultural resources, socioeconomics, environmental justice, public health and safety, transportation/circulation, aesthetics, utilities, hazardous materials and solid waste.

The Marine Corps will initiate a scoping process for the purpose of determining the extent of issues to be addressed, and identifying the significant issues related to this action. The Marine Corps will hold public scoping meetings as noted in the Addresses Section of this notice. These meetings will be advertised in area newspapers.

Marine Corps representatives will be available at these meetings to receive comments from the public regarding issues of concern to the public. Federal, state and local agencies, and interested individuals are encouraged to take this opportunity to identify environmental concerns that should be addressed during the preparation of the EIS. Agencies and the public are also invited and encouraged to provide written comments on scoping issues in addition to, or in lieu of, oral comments at the public meeting. To be most helpful, scoping comments should clearly describe specific issues or topics that the commentor believes the EIS should address.

Written comments must be postmarked no later than December 1, 2000, and mailed to: Commander, Southwest Division, Naval Facilities Engineering Command, 1220 Pacific Highway, San Diego, CA 92132-5190 (Attn: Mr. Doug Gilkey).

Dated: September 30, 2000.
Duncan Holaday,
Deputy Assistant Secretary of the Navy, (Installations and Facilities).

[FR Doc. 00-25656 Filed 10-5-00; 8:45 am]

BILLING CODE 3810-FF-P